DEPARTMENT OF TRANSPORTATION

Federal Highway Administration

Environmental Impact Statement: Salt Lake County, UT

AGENCY: Federal Highway Administration (FHWA), DOT.

ACTION: Revised notice of intent.

SUMMARY: The FHWA is issuing this notice to advise the public that the effort to prepare an Environmental Impact Statement (EIS) will be terminated for transportation improvements in the 3500 South Corridor in Salt Lake County, Utah.

FOR FURTHER INFORMATION CONTACT: Jeffrey Berna, Environmental Specialist, FHWA, Utah Division, 2520 West 4700 South, Suite 9A, Salt Lake City, UT 84118, Telephone (801) 963-0182; or Lisa Wilson, Utah Department of Transportation (UDOT), 2010 South 2760 West, Salt Lake City, UT 84104, Telephone (801) 887-3465.

SUPPLEMENTARY INFORMATION: The FHWA is cooperation with the UDOT have elected to terminate efforts to prepare an EIS for transportation improvements in the 3500 South corridor between Redwood Road and 8400 West in West Valley City and Salt Lake County, Utah. The original Notice of Intent was published on April 1, 2002, anticipating Utah Department of Transportation (UDOT) would request federal funding for project construction. The UDOT has recently elected to revise the scope of the project and fully fund the project with State funds. No federal funds or federal action will be required for the revised project. The UDOT will prepare a State Environmental Study for the project. If you have any questions regarding the revised 3500 South project or would like to provide scoping comments, please contact Lisa Wilson, UDOT Project Manger, at (801) 887-3465.

(Catalog of Federal and Domestic Assistance Program Number 20.205, Highway Research, Planning and Construction. The regulations implementing Executive Order 12372 regarding intergovernmental consultation on Federal programs and activities apply to this program.)
Issued on: December 8, 2005.
Jeffrey Berna,
Environmental Specialist, Utah Division, Federal Highway Administration, Salt Lake City, Utah.

[FR Doc. 05-24016 Filed 12-13-05; 8:45 am]

BILLING CODE 4910-22-M